DEPARTMENT OF JUSTICE

Notice of Lodging of Consent Decree Under the Comprehensive Environmental Response, Compensation, and Liability Act

Notice is hereby given that on August 28, 2012, a proposed Consent Decree in United States v. Cornell-Dubilier Electronics, Inc., Civil Action No. 12-cv-05407 JLL-MAH, was lodged with the United States District Court for the District of New Jersey.

The proposed Consent Decree resolves the United States' and the State of New Jersey's cost recovery and natural resource damages claims against Cornell-Dubilier Electronics, Inc. (“CDE”) under Section 107(a) of the Comprehensive Environmental Response, Compensation, and Liability Act, 42 U.S.C. 9601 et seq., relating to the Cornell-Dubilier Electronics, Inc. Superfund Site (“Site”) located in South Plainfield, New Jersey.

In the proposed Consent Decree, CDE and the United States and New Jersey agree to a stipulated judgment amount, 80 percent of the sum of the response cost and natural resource damage claims of the United States and New Jersey, or $367,453,449. CDE has agreed to pay, on a sliding scale, between 75 and 100 percent of insurance recoveries it receives to the United States and New Jersey. In addition to the potential recovery of insurance proceeds, CDE will make payments to the United States and New Jersey over three years totaling $1.11 million. All of these CDE payments will be divided between EPA, New Jersey, and the natural resource trustees. CDE will also place, as necessary, up to a total of $3.25 million into an escrow account to fund its state court insurance litigation. Finally, the Decree also resolves potential contribution claims and the State's cost claims against the Department of Defense and the General Services Administration. The federal agencies will pay $16,282,685 toward the United States' and the State's total past and estimated future response costs and natural resource damages.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to the matter as United States v. Cornell-Dubilier Electronics, Inc., D.J. Ref. Number 90-11-2-08223/2.

During the public comment period, the Consent Decree may be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting by mail from the Consent Decree Library a copy of the proposed Consent Decree only, please so note and enclose a check in the amount of $15.00 (25 cents per page reproduction cost for the 60 page proposed Consent Decree) payable to the U.S. Treasury. If requesting by email or fax, forward a check in that amount to the Consent Decree Library at the address given above.

Ronald G. Gluck,
Assistant Section Chief, Environmental Enforcement Section, Environment and Natural Resource Division.

[FR Doc. 2012-21900 Filed 9-5-12; 8:45 am]

BILLING CODE 4410-15-P